DEPARTMENT OF HOMELAND SECURITY

U.S. Citizenship and Immigration Services

Agency Information Collection Activities: Compliance Review Worksheet; New Information Collection; Comment Request

ACTION: 60-Day Notice of Information Collection Under Review: Compliance Review Worksheet.

The Department of Homeland Security, U.S. Citizenship and Immigration Services (USCIS), has submitted the following information collection request for review and clearance in accordance with the Paperwork Reduction Act of 1995. The information collection is published to obtain comments from the public and affected agencies. Comments are encouraged and will be accepted for sixty days until June 8, 2009.

Written comments and/or suggestions regarding the item(s) contained in this notice, especially regarding the estimated public burden and associated response time, should be directed to the Department of Homeland Security, USCIS, Chief, Regulatory Management Division, Clearance Office, 111 Massachusetts Avenue, Washington, DC 20529-2210. Comments may also be submitted to DHS via facsimile to 202-272-8352 or via e-mail at rfs.regs@dhs.gov.

When submitting comments by e-mail please make sure to add OMB-51 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection:

(1) Type of Information Collection: New information collection.

(2) Title of the Form/Collection: Compliance Review Worksheet.

(3) Agency Form Number, if Any, and the Applicable Component of the Department of Homeland Security Sponsoring the Collection: No form number. U.S. Citizenship and Immigration Services.

(4) Affected Public Who Will Be Asked or Required To Respond, as Well as a Brief Abstract: Primary: Business. The Compliance Review Worksheet will be used by USCIS to record the results of on-site inspections.

(5) An Estimate of the Total Number of Respondents and the Amount of Time Estimated for an Average Respondent To Respond: 25,000 responses at 30 minutes (.50) per response.

(6) An Estimate of the Total Public Burden (in Hours) Associated With the Collection: 12,500 annual burden hours.

If you need a copy of the supporting statement, or additional information, please visit the USCIS Web site at: http://www.regulations.gov/search/index.jsp. USCIS has requested and OMB has agreed to not display the information collection for public view as required under 5 CFR 1320.14.

If additional information is required contact: USCIS, Regulatory Management Division, 111 Massachusetts Avenue, Washington, DC 20529-2210, (202) 272-8377.

Dated: April 3, 2009.
Stephen Tarragon,
Deputy Chief, Regulatory Management Division, U.S. Citizenship and Immigration Services, Department of Homeland Security.

[FR Doc. E9-7917 Filed 4-7-09; 8:45 am]

BILLING CODE 9111-97-P